FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010786-013.

Title: Contship/Italia Space Charter and Sailing Agreement.

Parties: Contship Containerlines, Italia di Navagazione SpA.

Synopsis: The proposed modification: (1) Replaces Article 5.4 with new language concerning Italia's use of Contship terminals; (2) clarifies procedures in Article 5.7 concerning outside slot charters by Italia; (3) adds an Article 7.2, which provides for termination under conditions of insolvency; (4) restates the force majeure provisions of Article 10; (5) combines present Articles 11 and 12 into a new Article 11 concerning governing law and arbitration; and (6) adds a new Article 12 limiting assignment of rights and obligations under the agreement to related companies.

Agreement No.: 011671-005.

Title: Italia/CP Ships Space Charter and Sailing Agreement.

Parties: Italia di Navigazione, S.p.A., Contship Containerlines, TMM Lines Limited, LLC.

Synopsis: The proposed amendment: narrows the geographic scope of the agreement to the trade between U.S. Pacific ports and points and ports and points in Spain and Italy; provides for a future adjustment in slot allocations and the purchase/sale of slots on an ad hoc basis; adds language regarding exceptional costs; adds new provisions dealing with non-assignment and force majeure; and restates and combines certain existing agreement articles.

Dated: January 4, 2002.
By Order of the Federal Maritime Commission.
Theodore A. Zook,
Assistant Secretary.

[FR Doc. 02-564 Filed 1-8-02; 8:45 am]

BILLING CODE 6730-01-P